DEPARTMENT OF COMMERCE

National Oceanic and Atmospheric Administration

RIN 0648-XA620

Endangered Species; File No. 1551

AGENCY: National Marine Fisheries Service (NMFS), National Oceanic and Atmospheric Administration (NOAA), Commerce.

ACTION: Notice; receipt of application for permit modification.

SUMMARY: Notice is hereby given that NMFS, Southeast Fisheries Science Center (SEFSC), 75 Virginia Beach Drive, Miami, FL 33149 (Responsible Party: Bonnie Ponwith), has requested a modification to scientific research Permit No. 1551-02.

DATES: Written, telefaxed, or e-mail comments must be received on or before September 7, 2011.

ADDRESSES: The application and related documents are available for review by selecting “Records Open for Public Comment” from the Features box on the Applications and Permits for Protected Species (APPS) home page, https://apps.nmfs.noaa.gov, and then selecting File No. 1551-03 from the list of available applications.

These documents are also available upon written request or by appointment in the following offices:

Permits, Conservation and Education Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits, Conservation and Education Division, at the above address. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Amy Hapeman or Carrie Hubard, (301) 427-8401.

SUPPLEMENTARY INFORMATION: The subject modification to Permit No. 1551-02 is requested under the authority of the Endangered Species Act of 1973, as amended (16 U.S.C. 1531 et seq.) and the regulations governing the taking, importing, and exporting of endangered and threatened species (50 CFR 222-226).

Permit No. 1551, issued on July 24, 2008 (73 FR 44225), authorizes research on loggerhead (Caretta caretta), green (Chelonia mydas), Kemp's ridley (Lepidochelys kempii), olive ridley (Lepidochelys olivacea), hawksbill (Eretmochelys imbricata), and leatherback (Dermochelys coriacea) sea turtles in coastal and inshore waters of the North Atlantic, Gulf of Mexico and Caribbean Sea. Turtles may be taken by harassment during aerial and vessel surveys and direct capture. Researchers may also access animals legally captured incidental to fishing activities. Researchers are authorized to conduct a variety of sampling and tagging activities in order to collect biological and ecological information on these species that will aid conservation of the species.

The SEFSC requests a modification to the permit to increase the number of sea turtles (an additional 75 leatherback, 1,150 loggerhead, 75 green, 100 Kemp's ridley, and 900 unidentified hardshell sea turtles annually) that may be harassed during aerial surveys. This work would assess potential injury from Mississippi Canyon 252 oil on sea turtle populations in the northern Gulf of Mexico as part of the post-spill Natural Resources Damage Assessment of the BP Deepwater Horizon event. The modification would be valid through July 1, 2013.

Dated: August 2, 2011.
P. Michael Payne,
Chief, Permits, Conservation and Education Division, Office of Protected Resources, National Marine Fisheries Service.

[FR Doc. 2011-20074 Filed 8-5-11; 8:45 am]

BILLING CODE 3510-22-P